NUCLEAR REGULATORY COMMISSION

[Docket No. 72-10; NRC-2018-0057]

Northern States Power Company—Minnesota; Prairie Island Nuclear Generating Plant; Independent Spent Fuel Storage Installation; Correct Inspection Intervals Acceptance Criteria

AGENCY: Nuclear Regulatory Commission.

ACTION: License amendment application; issuance.

SUMMARY: The U.S. Nuclear Regulatory Commission (NRC) reconciled an error in the Northern States Power Company—Minnesota (NSPM) Renewed License No. SNM-2506. Under this license, NSPM is authorized to receive, possess, store, and transfer spent nuclear fuel and associated radioactive materials at the Prairie Island Independent Spent Fuel Storage Installation.

DATES: April 10, 2018.

ADDRESSES: Please refer to Docket ID NRC-2018-0057 when contacting the NRC about the availability of information regarding this document. You may obtain publicly-available information related to this document using any of the following methods:

• Federal Rulemaking Website: Go to http://www.regulations.gov and search for Docket ID NRC-2018-0057. Address questions about NRC dockets to Jennifer Borges; telephone: 301-287-9127; email: Jennifer.Borges@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: John-Chau Nguyen, Office of Nuclear Material Safety and Safeguards, U.S. Nuclear Regulatory Commission, Washington, DC 20555-0001; telephone: 301-415-0262; email: John-Chau.Nguyen@nrc.gov.

SUPPLEMENTARY INFORMATION: After receiving Renewed License No. SNM-2506, the NSPM staff began to review it and prepare procedures to implement new requirements. NSPM submitted an email on February 9, 2016 (ADAMS Accession No. ML17324B332), requesting the NRC to, among other things, address an apparent error in License Condition 22(a) of Renewed License No. SNM-2506 so that NSPM could establish procedures containing the correct inspection intervals acceptance criteria for Renewed License No. SNM-2506. License Condition 22(a) set inspection intervals to be “not less than” those in the American Concrete Institute (ACI) Code; however, NRC-issued documents demonstrated the NRC had intended the intervals “not to exceed” those in the ACI Code.

As a result of its review, the NRC staff determined that License Condition 22(a) should read “not to exceed” instead of “not less than” and has amended the license to correct this error. When the NRC staff evaluated visual inspection intervals in its Safety Evaluation Report (SER) dated December 2015 (ADAMS Accession No. ML15336A230) for Renewed License No. SNM-2506, Section 3.5.1.3 of the SER clearly articulated the staff's expectation that accessible areas of the concrete pads would be visually inspected at intervals “not to exceed” 5 years. Further, the SER states the staff determined that the specific inspection intervals and areas of inspection coverage in the Aging Management Program (AMP) for concrete pads are appropriate based upon the technical references pertinent to age-related degradation of concrete in similar environments, including American Concrete Institute guides (ACI) 349.3R-02 (ACI, 2002), ACI 201.1R-08 (ACI, 2008), American National Standards Institute/American Society of Civil Engineers guidelines (ANSI/ASCE) 11-99 (ASCE, 2000), and reactor renewal guidance provided in NRC NUREG-1801 (NRC, 2010b). The “not less than” language included in error is inconsistent with the NRC staff's SER and has the unintended consequence of preventing NSPM from conducting more frequent inspections.

Accordingly, based on the staff's findings, the NRC made the necessary change and issued Amendment No. 10 to License No. SNM-2506 to correct License Condition 22(a). Amendment No. 10 was effective as of its date of issuance. The NRC staff's findings are documented in a SER dated March 6, 2018 (ADAMS Accession No. ML18057A284), which determined that the amendment complies with the Atomic Energy Act of 1954, as amended, and NRC regulations. The issuance of Amendment No. 10 satisfies the criteria specified in § 51.22(c)(11) of title 10 of the Code of Federal Regulations (10 CFR) for a categorical exclusion. Therefore, the preparation of an environmental assessment or an environmental impact statement is not required.

In accordance with 10 CFR 72.46(b)(2), the NRC has determined that Amendment No. 10 does not present a genuine issue as to whether the public health and safety will be significantly affected. Therefore, the publication of a notice of proposed action and an opportunity for hearing or a notice of hearing is not warranted. Notice is hereby given of the right of interested persons to request a hearing on whether the action should be rescinded or modified.

Dated at Rockville, Maryland, this 4th day of April, 2018.
For the Nuclear Regulatory Commission.
John McKirgan,
Chief, Spent Fuel Licensing Branch, Division of Spent Fuel Management, Office of Nuclear Material Safety and Safeguards.

[FR Doc. 2018-07304 Filed 4-9-18; 8:45 am]

BILLING CODE 7590-01-P